DEPARTMENT OF AGRICULTURE

Forest Service

Santa Fe Municipal Watershed Wildland-Urban Interface Fuels Reduction Project, Santa Fe National Forest, Santa Fe County, NM

AGENCY: Forest Service, USDA.

ACTION: Notice of intent to prepare an environment impact statement.

SUMMARY: The Forest Service and City of Santa Fe (City) are proposing a project to reduce the potential for a large scale, high intensity wildfire to destroy the municipal watershed and impact the City's potable water supply. Current conditions indicate that the watershed is at high risk of catastrophic wildfire and subsequent severe flooding.

The Forest Service will prepare an environmental impact statement (EIS) to disclose the potential environmental effects of treating vegetation in portions of the municipal watershed to reduce the severity of a high intensity wildfire. The EIS will be prepared pursuant to the National Environmental Policy Act (NEPA) of 1969, as amended (42 U.S.C. 4321, et seq.), the Council on Environmental Quality (CEQ) Regulations for Implementing the Procedural Provisions of NEPA (40 CFR parts 1500 to 1508), and USDA NEPA Policies and Procedures (7 CFR part 1b; Forest Service Manual 1950).

The City of Sante Fe, Sangre de Cristo Water Division, is a cooperating agency in the proposed project.

The proposed project would be accomplished in multiple stages, treating several hundred acres each year, over a five-to-ten year period. Treatment effectiveness and results would be evaluated and adjustments made as needed, prior to implementing the following years treatments. The proposal involves thinning the smaller trees in the forest over approximately 2,500 acres. After removing thinned trees that are accessible along the existing road and chipping and hauling out the limbs and tops from along the road, any remaining thinned materials would be piled and burned. In addition, approximately 4,500 acres would be broadcast prescribed burned to reduce fuels on the steep, remote upper slopes. The proposed project does NOT involve road construction, commercial timber sales, or removal of mature trees. The proposed project would treat patches of forested land on both National Forest System and City lands within the Santa Fe municipal watershed.

DATES: Written comments and suggestions should be received on or before July 31, 2000. The draft environmental impact statement is expected to be filed with the Environmental Protection Agency (EPA) and available for public review in October 2000. A Final Environmental Impact Statement is expected to be published in January 2001.

ADDRESSES: Submit written comments and suggestions on the proposal, or requests to be placed on the project mailing list, to Land Management Planning, Santa Fe National Forest, 1474 Rodeo Road, P.O. Box 1689, Santa Fe, NM 87505-1689.

FOR FURTHER INFORMATION CONTACT: David W. Tippets, Project Public Affairs Leader, (505) 438-7685 or dtippets@fs.fed.us.

SUPPLEMENTARY INFORMATION: The Santa Fe River watershed within the national forest was designated a municipal watershed and closed to public entry in 1932. Within the national forest boundary, the City has two reservoirs, potable water delivery system facilities, stream flow gauging stations, and a primitive service road. Most of the canyon is roadless and very rugged. The watershed is the source of approximately 40 percent of Santa Fe's drinking water.

The proposed treatments are within piñon-juniper, ponderosa pine, and drier mixed conifer forest. Treatments are designed primarily to break up fuel continuity, increase soil-stabilizing grasses and shrubs, and reduce the amount of small trees, which act as fuel ladders and carry fire into the tree crowns. Treatments would also enhance the diversity of vegetation and wildlife habitats over the landscape. The treatments proposed are consistent with the Santa Fe National Forest Land and Resource Management Plan.

Preliminary issues include potential effects to human health and safety; soil and water; air quality; aquatic, riparian and upland habitats; threatened, endangered, and sensitive wildlife, fish, and plants; social and economic; and the effectiveness of treatments on fuel loading and fire behavior. To address these issues, the Forest Service and City will develop a range of alternatives, including a No Action alternative and other action alternatives.

Public participation has been an integral component of this proposed project and will continue to be important throughout the course of the NEPA process. During the last year, the Forest Service has been actively seeking information, comments, and assistance from individuals and organizations, State, local agencies, Indian tribes, and other Federal agencies that may be interested in, or affected by, the proposed project. Local environmental groups, other non-profit organizations, and scientists from universities and research stations have been active participants and partners throughout the early stages of the planning for this proposed project. Involvement efforts have included numerous public field trips, a January 2000 scoping letter, meetings with interest groups, and a scientific forum with the community.

The public involvement scoping process includes: (1) Identification of potential issues; (2) identification of issues to be analyzed in depth; and (3) elimination of insignificant issues or those which have been covered by a previous environmental review. For the Forest Service to best use the scoping input, comments should be received no later than 30 days from the date of this publication.

The draft environmental impact statement (DEIS) is expected to be filed with the Environmental Protection Agency and available for public review in October 2000. At that time, the EPA will publish a Notice of Availability of the DEIS in the Federal Register. The comment period on the draft environmental impact statement will be 45 days from the date the EPA publishes the Notice of Availability in the Federal Register. A final environmental impact statement (FEIS) will be published after all comments are reviewed and responded prepared. A Record of Decision (ROD) will be published at the time the FEIS is released. The final decision will be subject to administrative review under CFR 215.17.

The Forest Service believes, at this early stage, it is important to give reviewers notice of several court rulings related to public participation in the environmental review process. First, reviewers of DEIS must structure their participation in the environmental review of the proposal so that it is meaningful and alerts an agency to the reviewer's position and contentions (Vermont Yankee Nuclear Power Corp. v. NRDC, 435 U.S. 519, 553 (1978)). Also, environmental objections that could be raised at the DEIS stage but that are not raised until after completion of the FEIS may be waived or dismissed by the courts (City of Angoon v. Hodel, 803 F. 2d 1016, 1022 (9th Cir. 1986) and Wisconsin Heritages, Inc. v. Harris, 490 F. Supp. 1334, 1338 (E.D. Wis. 1980). Because of these court rulings, it is very important that those interested in this proposed action participate by the close of the 45-day comment period so that substantive comments and objections are made available to the Forest Service at a time when it can meaningfully consider them and respond to them in the final environmental impact statement.

To assist the Forest Service in identifying and considering issues and concerns regarding the proposed action, comments should be as specific as possible. Reviewers may wish to refer to the Council on Environmental Quality Regulations for implementing the procedural provisions of the National Environmental Policy Act at 40 CFR 1503.3 in addressing these points.

Comments received in response to this solicitation, including names and addresses of those who comment, will be considered part of the public record and available for public inspection. Comments submitted anonymously will be accepted and considered; however, those who submit anonymous comments may not have standing to appeal the subsequent decision under 36 CFR part 215.

Additionally, pursuant to 7 CFR 1.27(d), any person may request the agency to withhold a submission from the public record by showing how the Freedom of Information Act (FOIA) permits such confidentiality. Persons requesting such confidentiality should be aware that, under the FOIA, confidentiality may be granted in only very limited circumstances, such as to protect trade secrets. The Forest Service will inform the requester of the agency's decision regarding the request for confidentiality, and where the request is denied, the agency will return the submission and notify the requester that the comments may be resubmitted with or without name and address within a specified number of days.

The Forest Service is the lead agency for the preparation of the Environmental Impact Statement. The Responsible Official for this environmental analysis is Leonard Atencio, Forest Supervisor, Santa Fe National Forest.

Dated: July 5, 2000.
Leonard Atencio,
Forest Supervisor, Santa Fe National Forest.

[FR Doc. 00-17945 Filed 7-14-00; 8:45 am]

BILLING CODE 3410-11-M